DEPARTMENT OF THE INTERIOR

Bureau of Land Management

[BLM_OR_FRN_MO4500177922]

Notice of Realty Action: Recreation and Public Purposes Act Classification and Segregation for the City of Redmond's Wastewater Expansion Project

AGENCY: Bureau of Land Management, Interior.

ACTION: Notice of realty action.

SUMMARY: The Bureau of Land Management (BLM), Prineville District, Deschutes Field Office, is examining 541.5 acres of public lands in Deschutes County, Oregon for suitability of classification for conveyance to the City of Redmond under the provisions of the Recreation and Public Purposes Act (RPPA), as amended. The City of Redmond proposes to use the land for the expansion of its municipal wastewater treatment facility.

DATES: Submit written comments regarding this classification and RPPA application on or before November 4, 2024.

ADDRESSES: Written comments may be mailed, or hand delivered to the BLM, Prineville District Office, Deschutes Field Office, 3050 NE 3rd Street, Prineville, Oregon 97754. Comments may also be submitted electronically at blm_or_pr_lands@blm.gov, via BLM's website at https://eplanning.blm.gov/eplanning-ui/project/2022284/510, and fax 541-416-6782. Those interested in making a comment by phone can call 541-416-6711.

FOR FURTHER INFORMATION CONTACT: Ferris Couture, Planning and Environmental Coordinator, telephone 541-416-6711; address 3050 NE Third Street, Prineville, OR 97754; email blm_or_pr_lands@blm.gov. Individuals in the United States who are deaf, blind, hard of hearing, or have a speech disability may dial 711 (TTY, TDD, or TeleBraille) to access telecommunications relay services for contacting Mrs. Couture. Individuals outside the United States should use the relay services offered within their country to make international calls to the point-of-contact in the United States.

SUPPLEMENTARY INFORMATION: The lands will be examined under an environmental assessment (DOI-BLM-ORWA-P060-2023-0006-EA), and if they are determined to be suitable for disposal through this planning process, the lands will be found as suitable to classify for conveyance under the provisions of the RPPA. The lands are legally described as:

Patent

Willamette Meridian, Oregon

T. 14 S., R. 12 E.,

sec. 24, E½NE¼, NE¼NW¼NE¼, S½SW¼NE¼, E½SE¼NW¼, E½NE¼SW¼, and SE¼.

T. 14 S., R. 13 E.,

sec. 19, W½NW¼NE¼, W½SW¼NE¼, and SE¼SW¼NE¼.

The areas described aggregate 379.38 acres, more or less.

Quitclaim

Willamette Meridian, Oregon

T. 14 S., R. 13 E.,

sec. 19, lots 1 and 2, and E½NW¼.

The area described contains 162.12 acres, more or less.

The total area described contains 541.5 acres, more or less.

In accordance with the RPPA, the City of Redmond has filed an application to purchase the above-described lands to expand its wastewater treatment facility. The current facility is operating over capacity, and it is necessary for the City to acquire these public lands to expand its facilities to ensure that anticipated future population growth can be accommodated.

If these public lands are conveyed to the City of Redmond under the RPPA, the United States will retain a limited reversionary interest dictating that the conveyed lands would revert back to the United States unless substantially used in accordance with an approved plan and schedule of development on or before five years after the conveyance. Under no circumstances will any portion of these lands be reconveyed back to the United States that have been used for solid waste disposal or for any other purpose that the authorized officer determines may have resulted in the disposal, placement, or release of any hazardous substances. Prior to conveyance of the lands, a Phase I Environmental Site Assessment would be conducted to ensure BLM compliance with section 120(h) of the Comprehensive Environmental Response, Compensation and Liability Act. Under the provision of the RPPA, government entities requesting the acquisition of BLM-administered land for public health-related facilities qualify for special pricing at $10 per acre, and the purchase price of the requested 541.5 acres would therefore be $5,415.00.

A copy of this notice will be published in the newspaper of local circulation once a week for three consecutive weeks and posted to the BLM's National Environmental Policy Act register ePlanning: https://eplanning.blm.gov/eplanning-ui/project/2018065/510.

Upon publication of this notice in the Federal Register, the lands will be segregated from all other forms of appropriation under the public land laws, including location under the mining laws, except for conveyance under the RPPA and leasing under the mineral leasing laws.

The conveyance of the lands, if it occurs, will be subject to the following terms, conditions, and reservations:

1. A right-of-way thereon for ditches and canals constructed by the authority of the United States pursuant to the Act of August 30, 1890 (43 U.S.C. 945).

2. Provisions of the RPPA and all applicable regulations of the Secretary of the Interior.

3. All mineral deposits in the lands so conveyed, and the right to prospect for, mine, and remove such deposits from the same under applicable law and regulations as established by the Secretary of the Interior are reserved to the United States, together with all necessary access and exit rights.

4. Conveyance of the parcels is subject to valid existing rights.

5. An appropriate indemnification clause protecting the United States from claims arising out of the acquiring entity's use, occupancy, or occupation on the conveyed lands.

6. Any other reservations that the authorized officer determines appropriate to ensure public access and proper management of Federal lands and interests therein.

7. No portion of the land shall under any circumstances revert to the United States if any such portion has been used for solid waste disposal or for any other purpose which may result in the disposal, placement, or release of any hazardous substance.

Classification Comments: Interested persons may submit comments involving the suitability of the lands for development as a wastewater treatment facility. Comments on the classification are restricted to whether the lands are physically suited for the proposal, whether the development will maximize the future use or uses of the lands, whether the use is consistent with local planning and zoning, or if the use is consistent with State and Federal programs.

Application Comments: Interested persons may submit comments regarding the specific use proposed in the RPPA application and plan of development, whether the BLM followed proper administrative procedures, or any other factor not directly relating to the suitability of the lands for use as a wastewater treatment facility.

Any adverse comments will be reviewed by the BLM Oregon/Washington State Director or other authorized official of the Department of the Interior, who may sustain, vacate, or modify this realty action. In the absence of any adverse comments, the classification will become effective on November 18, 2024. The lands will not be offered for conveyance until after the classification becomes effective.

Before including your address, phone number, email address, or other personal identifying information in any comment, be aware that your entire comment, including your personal identifying information, may be made publicly available at any time. While you can ask us in your comment to withhold your personal identifying information from public review, we cannot guarantee that we will be able to do so.

(Authority: 43 CFR 2741.5)

Kevin K. Weldon,
Acting Field Manager, Prineville District, Deschutes Field Office.

[FR Doc. 2024-21136 Filed 9-17-24; 8:45 am]

BILLING CODE 4331-24-P